DEPARTMENT OF THE INTERIOR

Bureau of Land Management

[(WY-060-5410-EQ), WYW3397 & WYW83394]

Notice of Availability of Draft Environmental Assessment and Notice of Public Hearing for an Alluvial Valley Floor Coal Lease Exchange in Campbell County, WY

AGENCY: Bureau of Land Management, Interior.

ACTION: Notice of availability, Notice of public hearing.

SUMMARY: The Bureau of Land Management (BLM) received an application from Powder River Coal Company, Inc., (PRCC) to exchange portions of two Federal coal leases affecting an alluvial valley floor (AVF) designated as significant to farming. The affected leases are located at the Caballo Mine in Campbell County, Wyoming. The AVF lands will be exchanged for new coal leases adjacent to one or more existing coal leases.

This tract, which was applied for as an AVF exchange under the provisions of 43 CFR 3436, is called the Gold Mine Draw Exchange (GMDX) Tract. Consistent with the National Environmental Policy Act (NEPA) regulations, BLM must prepare an environmental analysis prior to consummating an exchange. BLM is announcing that the Draft Environmental Analysis (EA) is available for public review and that a public hearing will be held to elicit comments from any affected parties concerning the EA or the exchange in general.

DATES: The draft EA will be available for review and comment for 30 calendar days from the date this notice is published in the Federal Register. On April 11, 2006, the BLM will host a public hearing at 7 p.m. at the Clarion Hotel and Convention Center, 2009 South Douglas Highway, Gillette, Wyoming. At the public hearing, the public is invited to submit comments and resource information, and identify issues or concerns to be considered in the exchange process.

Announcements will be made through local news media and the Casper Field Office's Web site, which is: http://www.wy.blm.gov/cfo.

ADDRESSES: Please submit written comments or concerns to the BLM Casper Field Office, Attn: Steven Wright, 2987 Prospector Drive, Casper, Wyoming 82604. Written comments or resource information may also be hand-delivered to the BLM Casper Field Office or sent by facsimile to the attention of Steven Wright at 307-261-7587. Comments may be sent electronically to casper_wymail@blm.gov; please put GMDX Tract/Steven Wright in the subject line.

Members of the public may examine documents pertinent to this proposal by visiting the Casper Field Office during its business hours (7:45 a.m. to 4:30 p.m.), Monday through Friday, except holidays. Your response is important and will be considered in the EA process. If you do respond, we will keep you informed of the availability of environmental documents that address impacts that might occur from this proposal. Please note that comments and information submitted regarding this project including names, electronic mail addresses, and street addresses of the respondents will be available for public review and disclosure at the Casper Field Office. Individuals may request confidentiality. If you wish to withhold your name, electronic mail address, or street address from public review or from disclosure under the Freedom of Information Act, you must state this prominently at the beginning of your written comment. Such requests will be honored to the extent allowed by law. All submissions from organizations or businesses, or from individuals identifying themselves as representatives or officials of organizations or businesses, will be made available for public inspection in their entirety.

FOR FURTHER INFORMATION CONTACT: Steven Wright or Mike Karbs, BLM Casper Field Office, 2987 Prospector Drive, Casper, Wyoming 82604. Mr. Wright or Mr. Karbs may also be reached by telephone at 307-261-7600.

SUPPLEMENTARY INFORMATION: An application to exchange Federal coal leases adjacent to the Caballo Mine was filed on July, 24, 2003, by PRCC. The Powder River Regional Coal Team reviewed this lease exchange proposal at a public meeting held on April 27, 2005, in Gillette, Wyoming, and concurred with the further processing of the application.

As currently filed, the application includes approximately 67 million tons of in-place Federal coal underlying the following lands in Campbell County, Wyoming:

T. 48 N., R. 70 W., 6th P.M., Wyoming

Sec. 18: Lots 15-18;

T. 48 N., R. 71 W., 6th P.M., Wyoming

Sec. 11: Lot 16 (SE¼);

Sec. 12: Lots 13, 14, 15 (W½, SE¼);

Sec. 13: Lots 1 (SW½), 2-8, 11-14;

Sec. 14: Lots 1, 8 (E½); Sec. 24: Lots 1-3.

Containing 921.6 acres more or less.

The surface estate overlying the Federal coal is privately owned. If the GMDX Tract is exchanged for a new Federal coal lease, the new lease must be incorporated into the existing mining and reclamation plan for the adjacent mine and the Secretary of the Interior must approve the revised Mineral Leasing Act (MLA) mining plan before the Federal coal in the tract can be mined. The Office of Surface Mining is the Federal agency that would be responsible for recommending approval, approval with conditions, or disapproval of the revised MLA mining plan to the office of the Secretary of the Interior.

Robert A. Bennett,
State Director.

[FR Doc. 06-2618 Filed 3-21-06; 8:45 am]

BILLING CODE 4310-22-P